DEPARTMENT OF AGRICULTURE

National Institute of Food and Agriculture

Notice of Intent To Request Approval To Establish a New Information Collection and Record Keeping Requirement

AGENCY: National Institute of Food and Agriculture, USDA.

ACTION: Notice and request for comments.

SUMMARY: In accordance with the Paperwork Reduction Act of 1995 and Office of Management and Budget (OMB) regulations, that implement the Paperwork Reduction Act of 1995, this notice announces the National Institute of Food and Agriculture's (NIFA) intention to request approval to establish a new information collection and record keeping requirement for the National 4-H Conference (N4HC).

DATES: Written comments on this notice must be received by May 8, 2017, to be assured of consideration. Comments received after that date will be considered to the extent practicable.

ADDRESSES: Written comments may be submitted by any of the following methods: Email: rmartin@nifa.usda.gov; Mail: Office of Information Technology (OIT), NIFA, USDA, STOP 2216, 1400 Independence Avenue SW., Washington, DC 20250-2216.

FOR FURTHER INFORMATION CONTACT: Robert Martin, Records Officer; Email: rmartin@nifa.usda.gov.

SUPPLEMENTARY INFORMATION: Title: National 4-H Conference applications and forms.

OMB Number: 0524-new.

Type of Request: Intent to request approval to establish a new information collection and record keeping requirement for three years.

Abstract: In 1927, USDA began sponsoring the “National 4-H Club Camp”. The camp was held on the grounds of the National Mall in front of the USDA in Washington, DC and served to develop the next generation of leaders. Delegates attended training workshops, became acquainted with government and had the opportunity to meet with state leaders.

In 1958, the event name was changed to National 4-H Conference and, in 1959, the meeting moved from the National Mall to the newly founded National 4-H Center in Chevy Chase, MD, where it is still held today.

Currently, the annual National 4-H Conference brings youth delegates together to accomplish three goals:

(1) Learn—Provide youth a broad- based learning experience in which they will acquire practical knowledge and skills to reinforce the attitudes and motivation that will give them a heightened sense of responsibility and capacity to connect as active members of their communities, nation and world.

(2) Practice—Engage youth in hands-on educational activities in which they explore, practice and master existing and newly developed skills/knowledge in civic engagement, civic education and personal development.

(3) Apply—Facilitate direct opportunities for youth to apply what was learned in real world experiences in which they develop leadership skills using their voices, work, ideas and/or behavior to make a difference in their community, country and world.

The National 4-H Conference organizers propose an information collection and record keeping requirement for adult and youth conference leadership team applicants, program evaluation of conference participants, and health forms for youth delegates. The records to be maintained and the information collected will allow for better oversight and assessment of the program. Each new requirement is described in detail below.

(1) Youth Leadership Team Application

Need and Use of the Records: Approximately six former National 4-H Conference delegates who are still in high school and 18 years of age or under at the time of the National 4-H Conference are selected to be Youth Leadership Team members prior to and during National 4-H Conference. These Youth Leadership Team members plan and facilitate major components of the conference. The members must be skilled and prepared. An application for this volunteer position is required to assure the selection of qualified applicants. Up to two Youth Leadership Team adult advisors will also be chosen.

Components of the Record: The Youth Leadership Team application form includes: First and last name, grade in school, age, city and state, email, cell phone, home phone, 4-H Land Grant University associated with, years in 4-H, year attended National 4-H Conference, and other national 4-H teams served on. The form will have relevant questions to explain applicant qualifications and skills for the position.

Method of Collection: The application forms will be collected via email attachment.

Frequency of Response: This is a voluntary application process.

Affected Public: High schools students who are former National 4-H Conference delegates and interested Cooperative Extension State 4-H Office personnel.

Type of Respondents: High schools students who are former National 4-H Conference delegates and interested Cooperative Extension State 4-H Office personnel.

Estimate of Burden:

Number of respondents | Estimated number of responses per respondent | Average burden hours per response | Annual burden hours requested
50 | 1 | 2 | 100

(2) Roundtable Facilitator Application

Need and Use of the Records: Approximately sixteen college students are selected to be roundtable facilitators prior to and during National 4-H Conference. These facilitators are responsible for leading a group of youth delegates through the development and presentation of a thirty minute briefing to a federal agency. Facilitators must be skilled and prepared. An application for this volunteer position is required to assure the selection of qualified applicants. There are four levels of roundtable facilitators: (1) Lead facilitator, (2) returning facilitators, (3) new facilitators, and (4) facilitator advisor.

Components of the Record: Applications for all four levels of facilitators will include: First and last name, college or university, gender, age, languages spoken, race, home phone, cell phone, email, mailing address, and home state or territory. Each level of facilitator applications will have relevant application questions to explain applicant qualifications and skills for the position.

Method of Collection: The application forms will be collected via email attachment.

Frequency of Response: The lead and returning facilitator positions are open to any college student age 19-25 whom has served as a National 4-H Conference facilitator in the past. New facilitator positions are open to any college student age 19-25. The facilitator advisor position is open to any Cooperative Extension State 4-H Office personnel. This is a volunteer application process for all levels.

Affected Public: Interested college students and State 4-H Office personnel.

Type of Respondents: College students and State 4-H Office personnel.

Estimate of Burden:

Number of respondents | Estimated number of responses per respondent | Average burden hours per response | Annual burden hours requested
50 | 1 | 2 | 100

(3) National 4-H Conference Program Evaluations

Need and Use of the Records: In order for continuous improvement of program implementation and keeping the conference relevant with current youth and issues, the conference planners will conduct program evaluations with the involved parties. There will be separate evaluation forms for the four audiences: (1) Youth Leadership Team Members, (2) Roundtable Facilitators, (3) Conference Delegates, and (4) Conference Chaperones.

Components of the Record: The evaluation forms will include quantitative questions ranking the success of each component of the conference. There will also be open ended questions to address future ideas and program areas to improve upon.

Method of Collection: Each member of each audience will receive a link via email to an online survey.

Frequency of Response: Each person will respond to one survey request. There will be up to 19 facilitator respondents, 8 youth leadership team respondents, 270 delegate respondents, and 70 chaperone respondents.

Affected Public: Participants in the National 4-H Conference.

Type of Respondents: Youth Delegates, Adult Chaperones, Youth Leadership Team Members (High School students) and Roundtable Facilitators (college students).

Estimate of Burden:

Number of respondents | Estimated number of responses per respondent | Average burden hours per response | Annual burden hours requested
367 | 1 | .25 | 91.75

(4) National 4-H Conference Youth Delegate Health Form

Need and Use of the Records: Youth delegates attend National 4-H Conference in Chevy Chase, MD. The youth delegates are accompanied by adult chaperones from their state. Medical histories are to be completed by the parent of each youth delegate to assist with medical emergencies of their children.

Components of the Record: The health form consists of sections on (1) current health conditions, allergies, special needs, tetanus and influenza vaccination, emergency contact information, and parental/guardian consent to medical treatment.

Method of Collection: The forms are completed by the parent and delivered in person to the conference by the delegates' chaperone.

Frequency of Response: Each delegate (approximately 270) and the roundtable facilitators (approximately 17) and youth leadership team members (approximately 6) fill out and submit a form.

Affected Public: Conference delegates, facilitators, and youth leadership team members.

Type of Respondents: Parents of High school students, college students.

Estimate of Burden:

Number of respondents | Estimated number of responses per respondent | Average burden hours per response | Annual burden hours requested
1 | 293 | .25 | 73.25

(5) Conference Registration Form

Need and Use of the Records: Approximately 250 4-H youth and 75 adult chaperones attend National 4-H Conference on an annual basis. They need to complete a registration form to attend.

Components of the Record: The form consists of name, date of birth, address, phone number, email address, race and ethnicity, gender, emergency contact, Land Grant University affiliation, roundtable preferences, special accommodations, food requests.

Method of Collection: The delegates and chaperones will complete the registration form electronically and return it via email.

Frequency of Response: Approximately 250 youth and 75 adult chaperones will complete the registration form.

Affected Public: 4-H youth and adult chaperones who have applied and been selected to attend National 4-H Conference.

Type of Respondents: 4-H members and adult chaperones.

Estimate of Burden:

Number of respondents | Estimated number of responses per respondent | Average burden hours per response | Annual burden hours requested
325 | 1 | .25 | 81.25

Total Estimate of Burden: The estimated annual reporting burden for all National 4-H Conference collection is as follows:

Type of respondents | Number of respondents | Estimated number of responses per respondent | Average burden hours per response | Annual burden hours requested
Youth Leadership Team Applicants | 50 | 1 | 2 | 100
Facilitator Applicants | 50 | 1 | 2 | 100
Program Participant Evaluations | 367 | 1 | .25 | 91.75
Delegate Health Forms | 293 | 1 | .25 | 73.25
Conference Registration Forms | 325 | 1 | .25 | 81.25
Grand Total | 1085 |  |  | 446.25

Comments: Comments are invited on: (a) Whether the proposed record keeping requirement and collection of information are necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this 2 day of March 2017.
Ann Bartuska,
Acting Under Secretary, Research, Education, and Economics.

[FR Doc. 2017-04547 Filed 3-7-17; 8:45 am]

BILLING CODE 3410-22-P